NUCLEAR REGULATORY COMMISSION

10 CFR Part 72

[NRC-2024-0041]

RIN 3150-AL08

List of Approved Spent Fuel Storage Casks: Holtec International HI-STORM 100 Cask System, Certificate of Compliance No. 1014, Renewed Amendment No. 16

AGENCY: Nuclear Regulatory Commission.

ACTION: Direct final rule; confirmation of effective date.

SUMMARY: The U.S. Nuclear Regulatory Commission (NRC) is confirming the effective date of September 9, 2024, for the direct final rule that was published in the Federal Register on June 25, 2024. This direct final rule amended its spent fuel storage regulations by revising the Holtec International HI-STORM 100 Cask System listing within the “List of approved spent fuel storage casks” to include Renewed Amendment No. 16 to Certificate of Compliance No. 1014.

DATES: Effective date: The effective date of September 9, 2024, for the direct final rule published June 25, 2024 (89 FR 52999), is confirmed.

ADDRESSES: Please refer to Docket ID NRC-2024-0041 when contacting the NRC about the availability of information for this action. You may obtain publicly available information related to this action by any of the following methods:

• Federal Rulemaking Website: Go to https://www.regulations.gov and search for Docket ID NRC-2024-0041. Address questions about NRC dockets to Helen Chang; telephone: 301-415-3228; email: Helen.Chang@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The renewed Amendment No. 16 of Certificate of Compliance No. 1014 and associated changes to the technical specifications, and safety evaluation report can also be viewed in ADAMS under Package Accession No. ML24178A430.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Alexandra Terres, Office of Nuclear Materials Safety and Safeguards, telephone: 301-415-7000, email: Alexandra.Terres@nrc.gov and Yen-Ju Chen, Office of Nuclear Materials Safety and Safeguards, telephone: 301-415-1018 email: Yen-Ju.Chen@nrc.gov. Both are staff of the U.S. Nuclear Regulatory Commission, Washington, DC 20555-0001.

SUPPLEMENTARY INFORMATION: On June 25, 2024 (89 FR 52999), the NRC published a direct final rule amending its regulations in part 72 of title 10 of the Code of Federal Regulations to include Renewed Amendment No. 16 to Certificate of Compliance No. 1014. Renewed Amendment No. 16 updates the HI-STORM 100 Cask System to add a new overpack, include the ability to use computational fluid dynamics analysis to evaluate site-specific accident scenarios, modify the cask design, modify operational and testing requirements, and make changes to the final safety analysis report.

In the direct final rule, the NRC stated that if no significant adverse comments were received, the direct final rule would become effective on September 9, 2024. The NRC did not receive any comments on the direct final rule. Therefore, this direct final rule will become effective as scheduled.

Dated: August 1, 2024.
For the Nuclear Regulatory Commission.
Krupskaya T. Castellon,
Acting Chief, Regulatory Analysis and Rulemaking Support Branch, Division of Rulemaking, Environmental, and Financial Support. Office of Nuclear Material Safety and Safeguards.

[FR Doc. 2024-17324 Filed 8-5-24; 8:45 am]

BILLING CODE 7590-01-P